SECURITIES AND EXCHANGE COMMISSION

[Release No. IC-26193]

Notice of Applications for Deregistration Under Section 8(f) of the Investment Company Act of 1940

September 26, 2003.

The following is a notice of applications for deregistration under section 8(f) of the Investment Company Act of 1940 for the month of September, 2003. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on October 21, 2003, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus at (202) 942-0564, SEC, Division of Investment Management, Office of Investment Company Regulation, 450 Fifth Street, NW., Washington, DC 20549-0504.

Credit Suisse Municipal Bond Fund, Inc. [File No. 811-8923]

Summary: Applicant seeks an order declaring that it has ceased to be an investment company. On August 20, 2003, applicant made a liquidating distribution to its shareholders, based on net asset value. Expenses of $65,000 incurred in connection with the liquidation were paid by Credit Suisse Asset Management, LLC, applicant's investment adviser, and/or its affiliates.

Filing Date: The application was filed on September 16, 2003.

Applicant's Address: 466 Lexington Ave., New York, NY 10017.

Prudential International Bond Fund, Inc. [File No. 811-5123]

Summary: Applicant seeks an order declaring that it has ceased to be an investment company. On May 4, 2001, applicant transferred its assets to Dryden Global Total Return Fund, Inc. (formerly Prudential Global Total Return Fund, Inc.), based on net asset value. Expenses of $135,925 incurred in connection with the reorganization were paid by the surviving fund.

Filing Date: The application was filed on August 21, 2003.

Applicant's Address: Gateway Center Three, 100 Mulberry St., Newark, NJ 07102-4077.

Morgan Stanley Africa Investment Fund, Inc. [File No. 811-8218]

Summary: Applicant, a closed-end investment company, seeks an order declaring that it has ceased to be an investment company. On July 18, 2003, applicant made a final liquidating distribution to its shareholders, based on net asset value. Expenses of $81,599 incurred in connection with the liquidation were paid by applicant.

Filing Date: The application was filed on September 5, 2003.

Applicant's Address: c/o Morgan Stanley Investment Management Inc., 1221 Avenue of the Americas, New York, NY 10020.

Mercury Global Holdings, Inc. [File No. 811-4351]

Summary: Applicant seeks an order declaring that it has ceased to be an investment company. On July 21, 2003, applicant transferred its assets to Merrill Lynch Global Growth Fund, Inc., based on net asset value. Expenses of $139,612 incurred in connection with the reorganization were paid by the acquiring fund.

Filing Date: The application was filed on August 27, 2003.

Applicant's Address: 800 Scudders Mill Rd., Plainsboro, NJ 08536.

Camelot Funds [File No. 811-3139]

Summary: Applicant seeks an order declaring that it has ceased to be an investment company. On December 13, 2002, applicant made a liquidating distribution to its shareholders, based on net asset value. Expenses of $515 incurred in connection with the liquidation were paid by The Sachs Company, applicant's investment adviser.

Filing Date: The application was filed on August 27, 2003.

Applicant's Address: 1346 South Third St., Louisville, KY 40208.

Prudential Intermediate Global Income Fund, Inc. [File No. 811-5510]

Prudential Global Limited Maturity Fund, Inc. [File No. 811-6048]

Summary: Each applicant seeks an order declaring that it has ceased to be an investment company. On October 22, 1999, applicants transferred their assets to Dryden Global Total Return Fund, Inc. (formerly Prudential Global Total Return Fund, Inc.), based on net asset value. Expenses of $181,061 and $108,034, respectively, incurred in connection with the reorganizations were paid by the surviving fund.

Filing Date: The applications were filed on August 21, 2003.

Applicants' Address: Gateway Center Three, 100 Mulberry St., Newark, NJ 07102-4077.

Prudential Balanced Fund [File No. 811-5055]

Summary: Applicant seeks an order declaring that it has ceased to be an investment company. On November 10, 2000, applicant transferred its assets to Prudential Active Balanced Fund, a series of The Prudential Investment Portfolios, Inc., based on net asset value. Expenses of $307,095 incurred in connection with the reorganization were paid by the surviving fund.

Filing Date: The application was filed on August 21, 2003.

Applicant's Address: Gateway Center Three, 100 Mulberry St., Newark, NJ 07102-4077.

General American Capital Company [File No. 811-4900]

Summary: Applicant seeks an order declaring that it has ceased to be an investment company. Shareholders approved the merger of applicant's series on April 25, 2003 and applicant distributed its assets on April 28, 2003. The funds surviving the merger are portfolios of the Metropolitan Series Fund, Inc. MetLife Advisers, LLC and its affiliates, including General American Life Insurance Company, paid expenses of approximately $660,000 incurred in connection with the merger.

Filing Date: The application was filed on September 5, 2003.

Applicant's Address: 700 Market Street, St. Louis, Missouri 63101.

Lincoln National Bond Fund, Inc. [File No. 811-3210]

Summary: Applicant seeks an order declaring that it has ceased to be an investment company. On April 30, 2003, applicant distributed all of its assets to its shareholders based on net asset value pursuant to an agreement approved by the applicant's shareholders to reorganize Applicant, along with certain other Lincoln National funds, from a Maryland corporation into a series of a Delaware business trust. Aggregate expenses of approximately $42,901.00 were incurred in connection with the reorganization and merger, and were allocated to applicant prior to May 1, 2003, and to the Bond Fund (acquiring fund), a series of the Lincoln Variable Insurance Products Trust, as of May 1, 2003, and thereafter.

Filing Dates: The application was filed on May 23, 2003, and amended on August 1, 2003.

Applicant's Address: 1300 South Clinton Street, Fort Wayne, IN 46802.

Lincoln National Capital Appreciation Fund, Inc. [File No. 811-8074]

Summary: Applicant seeks an order declaring that it has ceased to be an investment company. On April 30, 2003, applicant distributed all of its assets to its shareholders based on net asset value pursuant to an agreement approved by the applicant's shareholders to reorganize applicant, along with certain other Lincoln National funds, from a Maryland corporation into a series of a Delaware business trust. Aggregate expenses of approximately $42,901.00 were incurred in connection with the reorganization and merger, and were allocated to applicant prior to May 1, 2003, and to the Capital Appreciation Fund (acquiring fund), a series of the Lincoln Variable Insurance Products Trust, as of May 1, 2003, and thereafter.

Filing Dates: The application was filed on May 23, 2003, and amended on August 1, 2003.

Applicant's Address: 1300 South Clinton Street, Fort Wayne, IN 46802.

Lincoln National Global Asset Allocation Fund, Inc. [File No. 811-5115]

Summary: Applicant seeks an order declaring that it has ceased to be an investment company. On April 30, 2003, applicant distributed all of its assets to its shareholders based on net asset value pursuant to an agreement approved by the applicant's shareholders to reorganize applicant, along with certain other Lincoln National funds, from a Maryland corporation into a series of a Delaware business trust. Aggregate expenses of approximately $42,901.00 were incurred in connection with the reorganization and merger, and were allocated to applicant prior to May 1, 2003, and to the Global Asset Allocation Fund (acquiring fund), a series of the Lincoln Variable Insurance Products Trust, as of May 1, 2003, and thereafter.

Filing Dates: The application was filed on May 23, 2003, and amended on August 1, 2003.

Applicant's Address: 1300 South Clinton Street, Fort Wayne, IN 46802.

Lincoln National Social Awareness Fund, Inc. [File No. 811-5464]

Summary: Applicant seeks an order declaring that it has ceased to be an investment company. On April 30, 2003, applicant distributed all of its assets to its shareholders based on net asset value pursuant to an agreement approved by the applicant's shareholders to reorganize applicant, along with certain other Lincoln National funds, from a Maryland corporation into a series of a Delaware business trust. Aggregate expenses of approximately $42,901.00 were incurred in connection with the reorganization and merger, and were allocated to applicant prior to May 1, 2003, and to the Social Awareness Fund (acquiring fund), a series of the Lincoln Variable Insurance Products Trust, as of May 1, 2003, and thereafter.

Filing Dates: The application was filed on May 23, 2003, and amended on August 1, 2003.

Applicant's Address: 1300 South Clinton Street, Fort Wayne, IN 46802.

Lincoln National Growth and Income Fund, Inc. [File No. 811-3211]

Summary: Applicant seeks an order declaring that it has ceased to be an investment company. On April 30, 2003, applicant distributed all of its assets to its shareholders based on net asset value pursuant to an agreement approved by the applicant's shareholders to reorganize applicant, along with certain other Lincoln National funds, from a Maryland corporation into a series of a Delaware business trust. Aggregate expenses of approximately $42,901.00 were incurred in connection with the reorganization and merger, and were allocated to applicant prior to May 1, 2003, and to the Growth and Income Fund (acquiring fund), a series of the Lincoln Variable Insurance Products Trust, as of May 1, 2003, and thereafter.

Filing Dates: The application was filed on May 23, 2003, and amended on August 1, 2003.

Applicant's Address: 1300 South Clinton Street, Fort Wayne, IN 46802.

Lincoln National Money Market Fund, Inc. [File No. 811-3212]

Summary: Applicant seeks an order declaring that it has ceased to be an investment company. On April 30, 2003, applicant distributed all of its assets to its shareholders based on net asset value pursuant to an agreement approved by the applicant's shareholders to reorganize applicant, along with certain other Lincoln National funds, from a Maryland corporation into a series of a Delaware business trust. Aggregate expenses of approximately $42,901.00 were incurred in connection with the reorganization and merger, and were allocated to applicant prior to May 1, 2003, and to the Money Market Fund (acquiring fund), a series of the Lincoln Variable Insurance Products Trust, as of May 1, 2003, and thereafter.

Filing Dates: The application was filed on May 23, 2003, and amended on August 1, 2003.

Applicant's Address: 1300 South Clinton Street, Fort Wayne, IN 46802.

Lincoln National Special Opportunities Fund, Inc. [File No. 811-3291]

Summary: Applicant seeks an order declaring that it has ceased to be an investment company. On April 30, 2003, applicant distributed all of its assets to its shareholders based on net asset value pursuant to an agreement approved by the applicant's shareholders to reorganize applicant, along with certain other Lincoln National funds, from a Maryland corporation into a series of a Delaware business trust. Aggregate expenses of approximately $42,901.00 were incurred in connection with the reorganization and merger, and were allocated to applicant prior to May 1, 2003, and to the Special Opportunities Fund (acquiring fund), a series of the Lincoln Variable Insurance Products Trust, as of May 1, 2003, and thereafter.

Filing Dates: The application was filed on May 23, 2003, and amended on August 1, 2003.

Applicant's Address: 1300 South Clinton Street, Fort Wayne, IN 46802.

Lincoln National Managed Fund, Inc. [File No. 811-3683]

Summary: Applicant seeks an order declaring that it has ceased to be an investment company. On April 30, 2003, applicant distributed all of its assets to its shareholders based on net asset value pursuant to an agreement approved by the applicant's shareholders to reorganize applicant, along with certain other Lincoln National funds, from a Maryland corporation into a series of a Delaware business trust. Aggregate expenses of approximately $42,901.00 were incurred in connection with the reorganization and merger, and were allocated to applicant prior to May 1, 2003, and to the Managed Fund (acquiring fund), a series of the Lincoln Variable Insurance Products Trust, as of May 1, 2003, and thereafter.

Filing Dates: The application was filed on May 23, 2003, and amended on August 1, 2003.

Applicant's Address: 1300 South Clinton Street, Fort Wayne, IN 46802.

Lincoln National International Fund, Inc. [File No. 811-6233]

Summary: Applicant seeks an order declaring that it has ceased to be an investment company. On April 30, 2003, applicant distributed all of its assets to its shareholders based on net asset value pursuant to an agreement approved by the applicant's shareholders to reorganize applicant, along with certain other Lincoln National funds, from a Maryland corporation into a series of a Delaware business trust. Aggregate expenses of approximately $42,901.00 were incurred in connection with the reorganization and merger, and were allocated to applicant prior to May 1, 2003, and to the International Fund (acquiring fund), a series of the Lincoln Variable Insurance Products Trust, as of May 1, 2003, and thereafter.

Filing Dates: The application was filed on May 23, 2003, and amended on August 1, 2003.

Applicant's Address: 1300 South Clinton Street, Fort Wayne, IN 46802.

Lincoln National Equity-Income Fund, Inc. [File No. 811-8126]

Summary: Applicant seeks an order declaring that it has ceased to be an investment company. On April 30, 2003, applicant distributed all of its assets to its shareholders based on net asset value pursuant to an agreement approved by the applicant's shareholders to reorganize applicant, along with certain other Lincoln National funds, from a Maryland corporation into a series of a Delaware business trust. Aggregate expenses of approximately $42,901.00 were incurred in connection with the reorganization and merger, and were allocated to applicant prior to May 1, 2003, and to the Equity-Income Fund (acquiring fund), a series of the Lincoln Variable Insurance Products Trust, as of May 1, 2003, and thereafter.

Filing Dates: The application was filed on May 23, 2003, and amended on August 1, 2003.

Applicant's Address: 1300 South Clinton Street, Fort Wayne, IN 46802.

For the Commission, by the Division of Investment Management, pursuant to delegated authority.
Margaret H. McFarland,
Deputy Secretary.

[FR Doc. 03-24950 Filed 10-1-03; 8:45 am]

BILLING CODE 8010-01-P